DEPARTMENT OF COMMERCE

Bureau of Industry and Security

Action Affecting Export Privileges; Ankair

In the Matter of:

Galaxy Aviation Trade Company Ltd., 15 Moreland Court, Lyndale Avenue, Finchley Road, London, UK, NW2 2PJ;

Hooshang Seddigh, 15 Moreland Court, Lyndale Avenue, Finchley Road, London, UK, NW2 2PJ;

Hamid Shaken Hendi, 5th Floor, 23 Nafisi Avenue, Shahrak Ekbatan, Karaj Special Road, Tehran, Iran;

Hossein Jahan Peyma, 2/1 Makran Cross, Heravi Square, Moghan Ave, Pasdaran Cross, Tehran, Iran;

Iran Air, Second Floor, No. 23 Nafisi Avenue, Ekbatan, Tehran, Iran;

Ankair, Yesilkoy Asfalti Istanbul No. 13/4, Florya, Istanbul, Turkey TR-34810,

Respondents.

Order Modifying Temporary Denial of Export Privileges of Respondent Ankair

On June 6, 2008, I issued an Order in accordance with Section 766.24 of the Export Administration Regulations (“EAR” or the “Regulations”), temporarily denying the export privileges for 180 days of the following persons for all items subject to the EAR: Galaxy Aviation Trade Company Ltd. (“Galaxy”), Hooshang Seddigh, Hamid Shaken Hendi, Hossein Jahan Peyma (Galaxy's shareholders), and Iran Air. The temporary denial order (“TDO”) also denied certain export privileges under the EAR of Ankair, Yesilkoy Asfalti Istanbul No. 13/4, Florya, Istanbul, Turkey TR-34810 (“Ankair”), specifically, any transactions involving Boeing 747, manufacturer serial number 24134, tail number TC-AKZ. The TDO was published in the Federal Register on June 17, 2008 (73 FR 34249), and unless renewed in accordance with Section 766.24(d) of the Regulations, will expire on December 3, 2008.

The TDO was issued based on evidence presented to me by the Office of Export Enforcement (“OEE”) that the Respondents were attempting to re-export a U.S. origin Boeing 747, manufacturer serial number 24134, tail number TC-AKZ, from Turkey to Iran without U.S. Government authorization and that it therefore was necessary in order to prevent an imminent violation of the Regulations.

Subsequent to the issuance of the TDO, OEE has requested that I modify the TDO as to Ankair to cover all exports or re-exports of items subject to the EAR. I have been presented evidence indicating that Ankair has violated the TDO and that Ankair has engaged in and/or is about to engage in or attempt further violations of the EAR involving the re-export of additional U.S. origin aircraft to Iran without U.S. Government authorization. Modification of the TDO to cover all items subject to the EAR is necessary to prevent further evasion of the TDO and to give companies in the United States and abroad notice to cease dealing with the Ankair in U.S. origin items so as to reduce the likelihood of subsequent exports or re-exports contrary to export control requirements.

It is therefore ordered:

First, that Ankair, Yesilkov Asfalti Istanbul No. 13/4, Florya, Istanbul, Turkey, TR 34810 (“Denied Person”) may not, directly or indirectly, participate in any way in any transaction involving any commodity, software or technology (hereinafter collectively referred to as “item”) exported or to be exported from the United States that is subject to the Export Administration Regulations (“EAR”), or in any other activity subject to the EAR including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or re-export to or on behalf of any Denied Person any item subject to the EAR;

B. Take any action that facilitates the acquisition or attempted acquisition by any Denied Person of the ownership, possession, or control of any item subject to the EAR that has been or will be exported from the United States, including financing or other support activities related to a transaction whereby any Denied Person acquires or attempts to acquire such ownership, possession or control;

C. Take any action to acquire from or to facilitate the acquisition or attempted acquisition from any Denied Person of any item subject to the EAR that has been exported from the United States;

D. Obtain from any Denied Person in the United States any item subject to the EAR with knowledge or reason to know that the item will be, or is intended to be, exported from the United States; or

E. Engage in any transaction to service any item subject to the EAR that has been or will be exported from the United States and which is owned, possessed or controlled by any Denied Person, or service any item, of whatever origin, that is owned, possessed or controlled by any Denied Person if such service involves the use of any item subject to the EAR that has been or will be exported from the United States. For purposes of this paragraph, servicing means installation, maintenance, repair, modification or testing.

Third, that after notice and opportunity for comment as provided in section 766.23 of the EAR, any other person, firm, corporation, or business organization related to any of the Respondents by affiliation, ownership, control, or position of responsibility in the conduct of trade or related services may also be made subject to the provisions of this Order.

Fourth, that this Order does not prohibit any export, re-export, or other transaction subject to the EAR where the only items involved that are subject to the EAR are the foreign produced direct product of U.S.-origin technology.

In accordance with the provisions of Section 766.24(e) of the EAR, Ankair may, at any time, appeal this Order by filing a full written statement in support of the appeal with the Office of the Administrative Law Judge, U.S. Coast Guard AU Docketing Center, 40 South Gay Street, Baltimore, Maryland 21202-4022.

In accordance with the provisions of Section 766.24(d) of the EAR, BIS may seek renewal of this Order by filing a written request not later than 20 days before the expiration date. The Respondents may oppose a request to renew this Order by filing a written submission with the Assistant Secretary for Export Enforcement, which must be received not later than seven days before the expiration date of the Order.

A copy of this Order shall be served on Ankair and shall be published in the Federal Register.

This Order is effective upon publication in the Federal Register and shall remain in effect until the expiration of the TDO on December 3, 2008, unless renewed in accordance with the Regulations.

Entered this 10th day of July, 2008.
Darryl W. Jackson,
Assistant Secretary of Commerce for Export Enforcement.

[FR Doc. E8-16425 Filed 7-21-08; 8:45 am]

BILLING CODE 3510-DT-M